NATIONAL SCIENCE FOUNDATION

Sunshine Act Meetings

The National Science Board's Awards and Facilities Committee hereby gives notice of the scheduling of meetings for the transaction of National Science Board business pursuant to the National Science Foundation Act and the Government in the Sunshine Act.

TIME AND DATE:

Wednesday, May 3, 2023, from 2:00-3:00 p.m. EDT

Friday, May 5, 2023, from 10:00 a.m.-1:00 p.m. EDT

Monday, May 8, 2023, from 1:00-5:00 p.m. EDT

PLACE: This meeting will be held by videoconference through National Science Foundation headquarters, 2145 Eisenhower Ave., Alexandria, VA 22314.

STATUS: Closed.

MATTERS TO BE CONSIDERED:

May 3, 2023: Committee Chair's opening remarks about the agenda; Antarctic Infrastructure Recapitalization (AIR) Program.

May 5, 2023: Committee Chair's opening remarks about the agenda; Renewal of National Center for Atmospheric Research (NCAR) Operations and Maintenance Award; Context of Request for Proposal for Antarctic Research Vessel Integrator; and Context of Renewal of Laser Interferometer Gravitational-Wave Observatory (LIGO) Operations and Maintenance Award.

May 8, 2023: Committee Chair's opening remarks about the agenda; Recompetition of National Ecological Observatory Network (NEON) Operations and Maintenance Award; Renewal of Ocean Observatories Initiative (OOI) Operations and Maintenance Award; and Context of Arecibo Record of Decision.

CONTACT PERSON FOR MORE INFORMATION: Point of contact for this meeting is: Michelle McCrackin, mmccrack@nsf.gov, (703) 292-7000. Meeting information and updates may be found at www.nsf.gov/nsb.

Christopher Blair,
Executive Assistant to the National Science Board Office.

[FR Doc. 2023-09112 Filed 4-26-23; 11:15 am]

BILLING CODE 7555-01-P